DEPARTMENT OF AGRICULTURE

Forest Service

36 CFR Part 242

DEPARTMENT OF THE INTERIOR

Fish and Wildlife Service

50 CFR Part 100

RIN 1018-AI88

Subsistence Management Regulations for Public Lands in Alaska

AGENCIES: Forest Service, Agriculture; Fish and Wildlife Service, Interior.

ACTION: Direct final rule.

SUMMARY: We, the U.S. Forest Service and U.S. Fish and Wildlife Service, are amending the regulations governing subsistence use of wildlife in Alaska by clarifying how old a person must be to receive a Federal Subsistence Registration Permit or Federal Designated Harvester Permit and by removing the requirement that Regional Councils must have an odd number of members. These changes are noncontroversial and are designed to ensure that the regulations for the Federal Subsistence Management Program in Alaska are easy for the public to understand and reflect current policies.

DATES: This rule will be effective on April 21, 2003, unless we receive written adverse comments or written notice of intent to submit adverse comments on or before April 4, 2003.

ADDRESSES: Submit written comments to the Office of Subsistence Management, 3601 C Street, Suite 1030, Anchorage, AK 99503. Submit electronic comments to Bill_Knauer@fws.gov. For electronic comments, please submit as either WordPerfect or MS Word files, avoiding the use of any special characters and any form of encryption.

FOR FURTHER INFORMATION CONTACT: For Forest Service questions, contact Ken Thompson, Regional Subsistence Program Manager, USDA-FS Alaska Region, at (907) 786-3592. For Fish and Wildlife Service questions, contact Thomas H. Boyd at (907) 786-3888.

SUPPLEMENTARY INFORMATION:

Background

The regulations at 36 CFR part 242 and 50 CFR part 100 (referred to below as “the regulations”), authorized by title VIII of the Alaska National Interest Lands Conservation Act (16 U.S.C. 3101-3126), implement the Federal Subsistence Management Program on public lands in Alaska.

On May 7, 2002, we published in the Federal Register (67 FR 30559-30571) a final rule that made certain changes to the regulations. In that final rule, we clarified how old a person must be to receive a Federal Subsistence Registration Permit or Federal Designated Harvester Permit, and we retained, without change, a long-held requirement that Regional Councils must have an odd number of members.

At the request of other agencies, in the final rule, we added language to § ___.6(b) of the regulations to clarify that, “In order to receive a Federal Subsistence Registration Permit or Federal Designated Harvester Permit or designate someone to harvest fish or wildlife for you under a Federal Designated Harvester Permit, you must be old enough to have reasonably harvested that species yourself (or under the guidance of an adult).” Since the publication of the final rule, we have determined that this language could be misleading and should be further clarified. Therefore, we are making editorial changes to this paragraph to make it easier to understand.

In addition, in the final rule, we retained, without change, a long-held requirement in § ___.11(b)(1) stating, “The number of members for each Regional Council shall be established by the Board, and shall be an odd number.” We retained the requirement that Regional Councils have an odd number of members to prevent the possibility of a tie during Council votes. Since the publication of the final rule, however, the Deputy Secretary of the Department of the Interior approved a Federal Subsistence Board recommendation to increase the size of Regional Councils to 10 or 13 members. These increases will help achieve better balance, as required by the Federal Advisory Committee Act (5 U.S.C. App.1), in Regional Councils. Further, we have learned that in Regional Council meetings, if a vote count is tied, that motion fails; therefore, our reason for requiring an odd number of members does not apply. In light of this new information, we are revising § ___.11(b)(1) to remove the requirement that Regional Councils must have an odd number of members. This change will bring this paragraph into accord with current policies.

We are publishing this rule without a prior proposal because we view this action as noncontroversial and anticipate no adverse public comment. This rule will be effective, as published in this document, 60 days after the date of publication in the Federal Register unless we receive written adverse comments or written notice of intent to submit adverse comments within 45 days of publication of this rule in the Federal Register. Adverse comments are comments that suggest the rule should not be adopted or that suggest the rule should be changed.

If we receive written adverse comments or written notice of intent to submit adverse comments, we will publish a notice in the Federal Register withdrawing this rule before the effective date. In the event that we do receive any adverse comments, we will engage in the normal rulemaking process to promulgate these changes to the CFR. Therefore, in this issue of the Federal Register, we have published a proposed rule regarding these regulatory changes. We will give the same consideration to comments submitted in response to either this direct final rule or the proposed rule; you do not need to submit comments to both documents.

As discussed above, if we receive no written adverse comments or written notice of intent to submit adverse comments within 45 days, then this direct final rule will become effective 60 days from today. In that case, we will publish a document in the Federal Register, before the effective date of this direct final rule, confirming the effective date and withdrawing the related proposed rule.

Required Determinations

Regulatory Planning and Review (E.O. 12866), Regulatory Flexibility Act (5 U.S.C. 601 et seq.), and Small Business Regulatory Enforcement Fairness Act (5 U.S.C. 804(2)).

An economic analysis is not necessary for this rule as it will not have an economic impact on any entities, large or small. This rule is not a significant rule under E.O. 12866 and, therefore, was not reviewed by the Office of Management and Budget.

Unfunded Mandates Reform Act (2 U.S.C. 1501 et seq.)

In accordance with the Unfunded Mandates Reform Act:

(a) This rule will not “significantly or uniquely” affect small governments. A Small Government Agency Plan is not required.

(b) This rule will not produce a Federal mandate of $100 million or greater in any year, that is, it is not a “significant regulatory action” under the Unfunded Mandates Reform Act.

Takings

In accordance with Executive Order 12630, this rule does not have significant takings implications. A takings implication assessment is not required.

Federalism

In accordance with Executive Order 13132, the rule does not have significant federalism effects. A federalism assessment is not required.

Civil Justice Reform

In accordance with Executive Order 12988, the Office of the Solicitor has determined that the rule does not unduly burden the judicial system and meets the requirements of sections 3(a) and 3(b)(2) of the Order.

Paperwork Reduction Act (44 U.S.C. 3501 et seq.)

This rule does not contain any new information collection or recordkeeping requirements under the Paperwork Reduction Act of 1995.

National Environmental Policy Act

We have determined that an Environmental Assessment and/or an Environmental Impact Statement as defined by the National Environmental Policy Act of 1969 need not be prepared for this rule. This rule does not constitute a major Federal action significantly affecting the quality of the human environment.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

For the reasons set out in the preamble, the Departments amend title 36, part 242, and title 50, part 100, of the Code of Federal Regulations, as set forth below.

PART___—SUBSISTENCE MANAGEMENT REGULATIONS FOR PUBLIC LANDS IN ALASKA

1. The authority citation for both 36 CFR part 242 and 50 CFR part 100 continues to read as follows:

Authority: 16 U.S.C. 3, 472, 551, 668dd, 3101-3126; 18 U.S.C. 3551-3586; 43 U.S.C. 1733.

2. In § ___.6, paragraph (b) is revised to read as follows:

§ ___.6 Licenses, permits, harvest tickets, tags, and reports.

* * * * *

(b) In order to receive a Federal Subsistence Registration Permit or Federal Designated Harvester Permit or designate someone to harvest fish or wildlife for you under a Federal Designated Harvester Permit, you must be old enough to reasonably harvest that species yourself (or under the guidance of an adult).

* * * * *

3. In § ___.11, paragraph (b)(1), the first sentence is revised to read as follows:

§ ___.11 Regional advisory councils.

* * * * *

(b) * * *

(1) The number of members for each Regional Council shall be established by the Board. * * *

* * * * *

Dated: January 31, 2003.
Gale A. Norton,
Secretary of the Interior.
Dated: November 14, 2002.
Steven A. Brink,
Acting Regional Forester, USDA-Forest Service.

[FR Doc. 03-3741 Filed 2-14-03; 8:45 am]

BILLING CODE 3410-11 and 4310-55-P